DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: GPRA Client Outcomes for the Substance Abuse and Mental Health Services Administration (SAMHSA)—(OMB No. 0930-0208)—Revision

The mission of the Substance Abuse and Mental Health Services Administration (SAMHSA) is to improve the effectiveness and efficiency of substance abuse and mental health treatment and prevention services across the United States. All of SAMHSA's activities are designed to ultimately reduce the gap in the availability of substance abuse and mental health services and to improve their effectiveness and efficiency.

Data are collected from all SAMHSA discretionary services grants and contracts where client/participant outcomes are to be assessed at three points (for the Center for Substance Abuse Treatment (CSAT): Intake, discharge, and post-intake and for the Center for Substance Abuse Prevention (CSAP): Pre-intervention, post-intervention, and follow-up). SAMHSA-funded projects are required to submit these data as a contingency of their award. The analysis of the data also will help determine whether the goal of reducing health and social costs of drug use to the public is being achieved.

The primary purpose of this data collection activity is to meet the reporting requirements of the Government Performance and Results Act (GPRA) by allowing SAMHSA to quantify the effects and accomplishments of SAMHSA programs.

The burden for the Center for Mental Health Services (CMHS) will be transferred from this data collection to its own separate Office of Management and Budget (OMB) clearance. The 60-day Federal Register Notice for National Outcome Measures (NOMS) for Consumers Receiving Mental Health Services was published on Friday, June 9, 2006 (Vol. 71, No. 111, p. 33476).

The burden for the CSAP gradually reduces due to the fact that this clearance request only pertains to a continuation of data collection for those grantees initially funded prior to FY2006. The new grantees (FY2006 and beyond) are approved under the NOMS for CSAP (OMB No. 0930-0230).

CSAT has no revisions to the instrument and the data collection time will remain the same but there is an increase in the number of respondents due to identifying the seven Screening, Brief Intervention, and Referral to Treatment program grantees that provide data uploads. The estimated annual response burden for this effort is provided in the table below:

Estimates of Annualized Hour Burden ¹⁻³
Center/form/ respondent type | Number of respondents | Responses per respondent | Total responses | Hours per response | Total hour burden | Added burden proportion | Total annual burden hours
CSAP GPRA Participant Outcome Measures for Discretionary Programs
Participants
FY2007 | 7,000 | 3 | 21,000 | .33 | 6,930 |  | 6,930
FY2008 | 3,000 | 3 | 9,000 | .33 | 2,970 |  | 2,970
CSAP Subtotal | 10,000 | 3 | 30,000 | .33 | 9,900 |  | 9,900
CSAP Annualized Subtotal | 5,000 |  | 15,000 |  |  |  | 4,950
CSAT GPRA Client Outcome Measures for Discretionary Programs
Clients
Adults | 28,000 | 3 | 84,000 | .33 | 27,720 | .33 | 9,148
Adolescents | 3,900 | 4 | 15,600 | .33 | 5,148 | .33 | 1,699
Screening, Brief Intervention and Referral to Treatment (SBIRT)⁴
Screening Only | 150,618 | 1 | 150,618 | .10 | 15,062 | 0 | 0
Brief Intervention | 27,679 | 3 | 83,037 | .16 | 13,286 | 0 | 0
Brief Tx & Referral to Tx | 9,200 | 3 | 27,600 | .33 | 9,108 | .33 | 3,006
SBIRT Client Subtotal | 187,497 |  | 261,255 |  | 37,456 |  | 3,006
Client Subtotal | 254,497 |  | 360,855 |  |  |  | 13,853
Data Extract by Grants⁵
Adult Records | 400 grants | 70 × 3 | 210 | .16 | 34 |  | 34
Adolescent Records | 73 grants | 53 × 4 | 212 | .16 | 34 |  | 34
Screening, Brief Intervention and Referral to Tx (SBIRT) Records
Screening Only | 7 grants | 21,517 × 1 | 21,517 | .05 | 1,076 |  | 1,076
Brief Intervention | 7 grants | 3,954 × 3 | 11,862 | .08 | 949 |  | 949
Brief Tx & Referral to Tx | 7 grants | 1,314 × 3 | 3,942 | .16 | 631 |  | 631
Data Extract Subtotal | 480 |  | 37,743 |  |  |  | 2,724
Upload⁶ | 5 grants |  | 171,639 | (1) | 29 |  | 29
Upload Subtotal⁶ | 5 grants |  | 171,639 |  |  |  | 29
CSAT Subtotal | 219,896 |  | 570,237 |  |  |  | 16,606
Total | 224,896 |  | 585,237 |  |  |  | 21,556
1. This table represents the maximum additional burden if adult respondents provide three sets of responses/data collections. CSAT adolescent respondents are expected to provide four sets of responses/data collections.
2. Added burden proportion is an adjustment reflecting customary and usual business practices programs engage in (e.g., they already collect the data items).
3. The minimum wage was used for calculating burden to respondents because employment status and level is variable for respondents normally served by these programs. A higher wage was used to calculate the burden for grants whose staff are employed at a higher rate.
4. Screening, Brief Intervention, Treatment and Referral (SBIRT) grant program:
*150,618 Screening Only (SO) respondents complete section A of the GPRA instrument, all of these items are asked during a customary and usual intake process resulting in zero burden; and
*27,679 Brief Intervention (BI) respondents complete sections A & B of the GPRA instrument, all of these items are asked during a customary and usual intake process resulting in zero burden; and
*9,200 Brief Treatment (BT) & Referral to Treatment (RT) respondents complete all sections of the GPRA instrument.
5. Data Extract by Grants: Grant burden for capturing customary and usual data.
6. Upload: 5 of the 7 SBIRT grants upload data; the other 2 grants conduct direct data entry.
7. 1 hr. per 6,000 records.

Send comments to Summer King, SAMHSA Reports Clearance Officer, Room 7-1044, One Choke Cherry Road, Rockville, MD 20857. Written comments should be received within 60 days of this notice.

Dated: September 5, 2006.
Anna Marsh,
Director, Office of Program Services.

[FR Doc. E6-15254 Filed 9-13-06; 8:45 am]

BILLING CODE 4162-20-P